DEPARTMENT OF HEALTH AND HUMAN SERVICES

Centers for Disease Control and Prevention

[60Day-15-15CF]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy A. Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Health Insurance Plans Research Study—New—Office of Health System Collaboration, Office of the Associate Director for Policy, Office of the Director, Centers for Disease Control and Prevention (CDC).

Background and Brief Description

The Health Insurance Plans Research Study will uniquely examine the prevalence, characteristics, and differences of prevention and wellness programs offered by health insurance plans in this critical era of healthcare reform. There are no known studies that have addressed the prevalence of prevention and wellness programs across health plans or explored the granular details of these programs as this study is intended to do. Not conducting this study would be one less step toward increasing healthy years of life.

Furthermore, the Health Insurance Plans Research Study will address the priorities and goals of the CDC Office of the Associate Director for Policy, Office of Health System Collaboration: (a) Identify and catalyze policy opportunities such as the Affordable Care Act to enhance healthcare transformation, (b) advance CDC's public health-healthcare strategy to improve population health, (c) strengthen strategic partnerships with healthcare systems and payers, federal and non-federal, and (d) fully leverage performance measures as a tool to improve the health of individuals across health systems and payers.

The CDC Office of the Associate Director for Policy intends to request that the Office of Management and Budget (OMB) approve a new collection of information under the Paperwork Reduction Act for three years. This data collection will occur once, and respondents will be surveyed once.

A sample of approximately 150 commercial health insurance plans in the United States that differ by size and geography, in the 50 states and the District of Columbia, will be selected to complete a web-based survey, the Prevention and Wellness Assessment Survey. The survey will be completed electronically; the burden should be minimal as compared to a paper-and-pencil survey. Information about the survey and instructions will be provided to health plan points of contact in advance and will also be available on the Web site, eliminating any interactions between the respondent and the project team, unless a respondent(s) has questions or concerns during completion of the survey.

The survey will take approximately 30 minutes to complete per respondent for a total estimated burden of 75 hours. Some burden associated with coordinating the time and identifying a person to take the survey will be imposed on key health plan contacts (e.g., medical directors, nurse directors, or other healthcare professional). The burden associated with this activity is estimated at 30 minutes per key health plan contact for a maximum of one key contact per health plan (1 key contact × 150 health plans = 150 key contacts), resulting in a total burden of 75 hours. In addition, administrative support staff at select health plans may assist with coordinating communications between key health plan points of contact and AHIP; the estimated burden is 30 minutes per health plan, resulting in a total burden of 75 hours.

Following the analysis of survey data, the project team will conduct one-hour telephone interviews with no more than nine health plans (1 hour × 9 health plans) to gain a better understanding of lessons learned and best practices associated with the design and implementation of prevention and wellness programs by commercial health insurance plans. The project team will use this information to build upon the knowledge gained through the survey. For example, there may be differences in how health plans structure prevention and wellness programs for different employer accounts based on employer requests. The estimated burden is 1 hour per health plan, resulting in a total burden of 9 hours.

As shown in the burden table, the total burden calculation in hours for key health plan points of contact, and health plan respondents (e.g., physicians, nurses, other healthcare professionals) and administrative support staff for this data collection is 234 hours.

Best practices in outreach will be utilized to maximize survey response rates. Key health plan contacts at non-responding health plans will receive follow up by telephone and one-to-one assistance will be provided if needed.

The results of this study are of great interest not only to the CDC Office of the Associate Director for Policy but to other CDC Centers, Institutes, and Offices; and other federal agencies and partners such as the Health Resources and Services Administration (HRSA), the members of the CDC Advisory Committee to the Director, and the CDC Public Health-Health Care Collaboration Workgroup (federal, state, and local public health; public and private organizations; healthcare providers; professional membership associations; and academia representation). The government intends to accomplish the following as a result of this data collection: (a) Identify high priority opportunities for public health and healthcare collaboration, (b) inform a public health-healthcare strategic agenda, (c) improve the use of clinical preventive services, and (d) improve capacity of healthcare systems to incorporate public health practices and principles. At the conclusion of this study, a formal report, two issue briefs, and potentially a manuscript for publication will be produced.

CDC is requesting approval for approximately 234 burden hours annually. There are no costs to respondents other than their time.

Estimated Annualized Burden Hours
Type of respondent | Form name | Number respondents | Number responses per respondent | Average burden per response (in hours) | Total burden hours
Physician, Nurse, or Other Healthcare Professional (To Complete Survey) | Prevention and Wellness Assessment Survey | 150 | 1 | 30/60 | 75
Key Health Plan Contact | N/A | 150 | 1 | 30/60 | 75
Administrative Support | N/A | 150 | 1 | 30/60 | 75
Physician, Nurse, or Other Healthcare Professional (To Complete 1-hour Interview Post Survey) | N/A | 9 | 1 | 1 | 9
Total |  |  |  |  | 234

Leroy A. Richardson,
Chief, Information Collection Review Office, Office of Scientific Integrity, Office of the Associate Director for Science, Office of the Director, Centers for Disease Control and Prevention.

[FR Doc. 2014-25561 Filed 10-27-14; 8:45 am]

BILLING CODE 4163-18-P